DEPARTMENT OF COMMERCE

National Oceanic and Atmospheric Administration

[I.D. 030603A]

Endangered Species; File No. 1375

AGENCY: National Marine Fisheries Service (NMFS), National Oceanic and Atmospheric Administration (NOAA), Commerce.

ACTION: Issuance of permit.

SUMMARY: Notice is hereby given that Dr. Thomas J. Kwak, U.S. Geological Survey, North Carolina Cooperative Fish and Wildlife Research Unit, Box 7617, 201 David Clark Labs, North Carolina State University, Raleigh, NC 27695-7617 has been issued a permit to take shortnose sturgeon, Acipenser brevirostrum, for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and,

Southeast Region, NMFS, 9721 Executive Center Drive North, St. Petersburg, FL 33702-2432; phone (727) 570-5301; fax (727) 570-5320.

FOR FURTHER INFORMATION CONTACT: Jennifer Jefferies or Gene Nitta, (301) 713-2289.

SUPPLEMENTARY INFORMATION: On April 18, 2002, notice was published in the Federal Register (67 FR 19166) that a request for a scientific research permit to take shortnose sturgeon, had been submitted by the above-named Dr. Thomas J. Kwak. The requested permit has been issued under the authority of the Endangered Species Act of 1973, as amended (ESA; 16 U.S.C. 1531 et seq.) and the regulations governing the taking, importing, and exporting of endangered and threatened species (50 CFR parts 222-226).

Restoring the shornose sturgeon population in the Roanoke/Albemarle River system in North Carolina is being considered; however, habitat suitability with respect to water quality is not known. This research study will deploy 1,000 hatchery-reared juvenile shortnose sturgeon in cages at 10 test sites within the Roanoke/Albemarle River system for 28 days. The fish will then be euthanized and their tissue analyzed for contaminants. The results of this study will provide needed information to determine if water quality is a limiting factor of the ecological success of shortnose sturgeon in this river system.

Issuance of this permit, as required by the ESA, was based on a finding that such permit (1) was applied for in good faith, (2) will not operate to the disadvantage of the endangered species which is the subject of this permit, and (3) is consistent with the purposes and policies set forth in section 2 of the ESA.

Dated: March 24, 2003.
Stephen L. Leathery,
Chief, Permits, Conservation and Education Division, Office of Protected Resources, National Marine Fisheries Service.

[FR Doc. 03-7962 Filed 4-1-03; 8:45 am]

BILLING CODE 3510-22-S